DEPARTMENT OF HEALTH AND HUMAN SERVICES

Centers for Disease Control and Prevention

National Personal Protective Technology Labs (NPPTL), National Institute for Occupational Safety and Health (NIOSH) of the Centers for Disease Control and Prevention (CDC) Announces the Following Meeting

Name: Continued Discussions for Concepts of Powered Air-Purifying Respirator (PAPR) Standards and Introduction of Concepts for Closed Circuit, Self-Contained Breathing Apparatus Standards Development Efforts Used for Respiratory Protection Against Chemical, Biological, Radiological, and Nuclear (CBRN) Agents.

Date and Time: 8:30 a.m.-5 p.m., December 15, 2004.

Place: Sheraton Station Square, 7 Station Square Drive, Pittsburgh, Pennsylvania.

Purpose: NIOSH will continue discussions of conceptual standards and testing processes for PAPR standards suitable for respiratory protection against CBRN agents. NIOSH also wishes to introduce conceptual requirements for Closed Circuit, Self-Contained Breathing Apparatus suitable for respiratory protection against CBRN agents.

NIOSH, along with the U.S. Army Research, Development and Engineering Command (RDECOM, formerly SBCCOM) and the National Institute for Standards and Technology (NIST), will present information to attendees concerning the concept development for the PAPR CBRN standard and the Closed Circuit, Self-Contained Breathing Apparatus CBRN standard. Participants will be given an opportunity to ask questions on these topics and to present individual comments for consideration. Interested participants may obtain a copy of the PAPR CBRN concept paper and the Closed Circuit, Self-Contained Breathing Apparatus concept paper, as well as earlier versions of other concept papers used during the standard development effort, from the NIOSH NPPTL Web site at http://www.cdc.gov/niosh/npptl. The October 30, 2004, concept papers will be used as the basis for discussion at the public meeting.

Municipal, state, and federal responder groups, particularly in locations considered potential terrorism targets, have been developing and modifying response and consequence management plans for domestic security and preparedness issues. Since the World Trade Center and anthrax incidents, most emergency response agencies have operated with a heightened appreciation of the potential scope and sustained resource requirements for coping with such events. The federal Interagency Board for Equipment Standardization and Interoperability (IAB) has worked to identify personal protective equipment that is already available on the market for responders' use. The IAB has identified the development of standards or guidelines for respiratory protection equipment as a top priority. NIOSH, NIST, the National Fire Protection Association (NFPA), and the Occupational Safety and Health Administration have entered into a Memorandum of Understanding defining each agency or organization's role in developing, establishing, and enforcing standards or guidelines for responders' respiratory protective devices. NIST has initiated Interagency Agreements with NIOSH and RDECOM to aid in the development of appropriate protection standards or guidelines. NIOSH has the lead in developing standards or guidelines to test, evaluate, and approve respirators.

NIOSH, RDECOM, and NIST have hosted public meetings on April 17 and 18, 2001; June 18 and 19, 2002; October 16 and 17, 2002; April 29, 2003; June 25, 2003; October 16, 2003; and May 4, 2004, presenting their progress in assessing respiratory protection needs of responders to CBRN incidents. The methods or models for developing hazard and exposure estimates and the status in evaluating test methods and performance standards that may be applicable as future CBRN respirator standards or guidelines were discussed at these meetings.

Three NIOSH CBRN respirator standards and several NFPA standards for ensembles, SCBA, and protective clothing were the first adopted by the U.S. Department of Homeland Security (DHS). On February 26, 2004, DHS adopted, as DHS standards, three NIOSH criteria for testing and certifying respirators for protection against CBRN exposures. NIOSH uses the criteria to test (1) SCBA for use by emergency responders against CBRN, (2) APR for use by emergency responders against CBRN exposures, and (3) escape respirators for protection against CBRN.

Status: This meeting is hosted by NIOSH and will be open to the public, limited only by the space available. The meeting room will accommodate approximately 150 people.

Interested parties should make hotel reservations directly with the Sheraton Station Square (412) 261-2000 / 1-888-325-3535) before the cut-off date of November 30, 2004. A special group rate of $85 per night for meeting guests has been negotiated for this meeting. The NIOSH/NPPTL Public Meeting must be referenced to receive this special rate. Interested parties should confirm their attendance at this meeting by completing a registration form and forwarding it by e-mail (npptlevents@cdc.gov) or fax (304-225-2003) to the NPPTL Event Management Office. A registration form may be obtained from the NIOSH Homepage (http://www.cdc.gov/niosh) by selecting conferences and then the event.

An opportunity to make presentations regarding the discussions of concepts for standards and testing processes for PAPR standards and for Closed Circuit, Self-Contained, Breathing Apparatus standards suitable for respiratory protection against CBRN agents will be given. Requests to make such presentations at the public meeting should be made by e-mail to the NPPTL Event Management Office (npptlevents@cdc.gov). All requests to present should include the name, address, telephone number, relevant business affiliations of the presenter, a brief summary of the presentation, and the approximate time requested for the presentation. Oral presentations should be limited to 15 minutes.

After reviewing the requests for presentations, NPPTL Event Management will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

Comments on the topics presented in this notice and at the meeting should be mailed to the NIOSH Docket Office, Robert Taft Laboratories, M/S C34, 4676 Columbia Parkway, Cincinnati, Ohio 45226, Telephone 513-533-8303, Fax 513-533-8285. Comments may also be submitted by e-mail to niocindocket@cdc.gov. E-mail attachments should be formatted in Microsoft Word. Comments should be submitted to NIOSH no later than January 31, 2005. Comments regarding CBRN PAPR should reference Docket Number NIOSH-010 in the subject heading; and comments regarding the CBRN Closed Circuit, Self-Contained Breathing Apparatus should reference Docket Number NIOSH-039.

Contact for Additional Information: NPPTL Event Management, 3604 Collins Ferry Road, Suite 100, Morgantown, West Virginia 26505-2353, Telephone 304-599-5941 x138, Fax 304-225-2003, E-mail npptlevents@cdc.gov.

The Director, Management Analysis and Services Office, has been delegated the authority to sign Federal Register Notices pertaining to announcements of meetings and other committee management activities, for both CDC and the Agency for Toxic Substances and Disease Registry.

Dated: November 12, 2004.
B. Kathy Skipper,
Acting Director, Management Analysis and Services Office, Centers for Disease Control and Prevention.

[FR Doc. 04-25594 Filed 11-17-04; 8:45 am]

BILLING CODE 4163-19-P